DEPARTMENT OF TRANSPORTATION

Maritime Administration

[Docket No. MARAD-2014-0009]

Request for Comments of a Previously Approved Information Collection

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on October 30, 2013 and comments were due by December 30, 2013. No comments were received.

DATES: Comments must be submitted on or before February 20, 2014.

FOR FURTHER INFORMATION CONTACT: Michael Yarrington, Chief, Office of Marine Insurance, Room W23-312, MAR-712, Maritime Administration, U.S. Department of Transportation, 1200 New Jersey Avenue SE., Washington, DC, 20590, (202) 366-1915. Copies of this collection can also be obtained from that office.

SUPPLEMENTARY INFORMATION: Title: Approval of Underwriters for Marine Hull Insurance.

OMB Control Number: 2133-0517.

Type of Request: Renewal of a Previously Approved Information Collection.

Abstract: This collection of information involves the approval of marine hull underwriters to insure MARAD program vessels. Applicants will be required to submit financial data upon which MARAD approval would be based. This information is needed in order that MARAD officials can evaluate the underwriters and determine their suitability for providing marine hull insurance on MARAD vessels.

Affected Public: Marine insurance brokers and underwriters of marine insurance.

Estimated Number of Respondents: 62.

Estimated Number of Responses: 62.

Annual Estimated Total Annual Burden Hours: 46.

Frequency of Collection: Annually.

ADDRESSES: Send comments regarding the burden estimate, including suggestions for reducing the burden, to the Office of Management and Budget, Attention: Desk Officer for the Office of the Secretary of Transportation, 725 17th Street NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:93.

Dated: January 14, 2014.
Julie P. Agarwal,
Secretary, Maritime Administration.

[FR Doc. 2014-01037 Filed 1-17-14; 8:45 am]

BILLING CODE 4910-81-P